DEPARTMENT OF AGRICULTURE

Commodity Credit Corporation

Notice of Funds Availability—2002 Livestock Compensation Program II

AGENCY: Commodity Credit Corporation, USDA.

ACTION: Notice.

SUMMARY: This notice announces the availability of Commodity Credit Corporation (CCC) funds provided under the Agricultural Assistance Act of 2003 to implement the 2002 Livestock Compensation Program II (LCP-II). Livestock for which payments were made under the 2002 Livestock Compensation Program I (LCP-I) will not be eligible to generate claims under LCP-II. Other offsets can apply.

DATES: (1) The Farm Service Agency (FSA) will begin accepting applications on April 1, 2003.

(2) The application deadline will be determined by the Deputy Administrator for Farm Programs of FSA, (Deputy Administrator).

(3) Payments will be issued to applicants meeting all eligibility requirements beginning May 1, 2003, or as determined by the Deputy Administrator.

FOR FURTHER INFORMATION CONTACT: Lynn Tjeerdsma, Chief, Emergency Preparedness and Programs Branch, USDA/FSA, 1400 Independence Ave. SW., STOP 0517, Washington, DC 20250-0522; telephone (202) 720-7641; facsimile (202) 690-3610; electronic mail: Lynn_Tjeerdsma@wdc.usda.gov. Persons with disabilities who require alternative means for communication of regulatory information (braille, large print, audiotape, etc.) should contact USDA's TARGET Center at (202) 720-2600 (voice and TDD).

SUPPLEMENTARY INFORMATION:

Executive Order 12372

This program is not subject to the provisions of Executive Order 12372, which requires consultation with State and local officials.

Environmental Compliance

Due to the weather-related disasters or other emergency requiring the Agency to provide immediate relief, sufficient time was not available to complete an environmental review prior to implementing the proposed action. Therefore, an environmental assessment is being completed to consider the potential impacts of this proposed action on the human environment in accordance with the provisions of the National Environmental Policy Act of 1969 (NEPA), 42 U.S.C. 4321, et seq., the regulations of the Council on Environmental Quality (40 CFR parts 1500-1508), and FSA's regulations for compliance with NEPA, 7 CFR part 799. A copy of the draft environmental assessment will be made available for public review and comment upon request.

Paperwork Reduction Act

Section 217 of the Agricultural Assistance Act of 2003 requires that this program be promulgated and administered without regard to 44 U.S.C. 35, the Paperwork Reduction Act. This means that the information to be collected from the public to implement this program and the burden, in time and money, that the collection of the information would have on the public do not have to be approved by the Office of Management and Budget or be subject to the 60-day public comment period required by 5 CFR 1320.8(d)(1).

Background

A Notice of Funds Availability was published in the Federal Register on Thursday, October 10, 2002, (67 FR 63070) announcing the availability of $752 million ($185 million was added at a later date, bringing the total available to $937 million) under section 32 of the Act of August 24, 1935 (section 32) to implement the 2002 Livestock Compensation Program, or 2002 LCP-I. Livestock feed supplies and grazing availability were significantly reduced due to weather-related disasters or other emergency conditions that occurred throughout much of the United States during 2001 and 2002. The 2002 LCP-I provided immediate financial assistance to owners or cash lessees of eligible beef, dairy, buffalo, beefalo, sheep and goats in certain States and counties to offset losses due to drought. Funds were provided to eligible applicants only in those counties declared under a Secretarial disaster designation for drought made after January 1, 2001, or submitted to the Secretary of Agriculture, by the Governor of a State or a Tribal Leader of an Indian Reservation, no later than September 19, 2002, and subsequently approved.

Recently, in section 203 of the Agricultural Assistance Act of 2003 (2003 Act) Pub. L. 108-7, enacted on February 20, 2003, Congress provided that the funds of the Commodity Credit Corporation should be used to carry out what amounts to a supplement to LCP-1, not in the sense of granting more payments to those who received payments before, but by increasing the persons who are eligible to receive payments in the program. That supplemental program is referred to in this notice as the 2002 Livestock Compensation Program, the 2002 LCP-II or, simply, LCP-II.

Eligibility criteria and application procedures for the new recipients are set out below. FSA will determine the eligibility of applicants and the amount of assistance that will be paid. It bears repeating that livestock that generated payment under LCP-I cannot generate claims under the expanded program. There is, still, another limitation on these new payments. That is, a person's payment eligibility under LCP-II, to the extent it is otherwise allowed by this notice, will be reduced by the payments received by that person under the 2002 Cattle Feed Program announced on September 3, 2002 (67 FR 56260) and vice versa. Also, payment received by a producer under LCP-II and, as applicable, under the 2002 Cattle Feed Program as announced on September 3, 2002 (67 FR 56260) will reduce the benefits available for a person with respect to the separate but also new “livestock assistance program” provided for in section 203(b) of the 2003 Act. These offsets among programs are specifically provided for in section 203(c) of the 2003 Act.

As indicated, section 203(a) of the 2003 Act, basically, expands the LCP-I program. It does this by providing for using Commodity Credit Corporation funds to carry out the original program for, to the extent not already covered, all applicants who conducted a livestock operation that is physically located in any county named as a primary disaster area (which includes areas named under a Presidential disaster declaration, not just a Secretarial disaster designation, as in LCP) for any qualifying natural disaster (not just drought, as in LCP) in calendar years 2001 and 2002 or which were submitted to the Secretary or President for that designation no later than February 20, 2003, and were subsequently approved as primary disaster counties. The statute adds that for all of these new claims, however, payments can only be made to the extent that the claim meets all other eligibility requirements established by the Secretary in the original program (which had a different funding source).

Accordingly, most of the eligibility criteria will be the same for LCP-II as for LCP-I, except those that expand the program as indicated above. Those new terms include tying the claims back to livestock operations as they existed, including the numbers of eligible livestock to June 1, 2002.

Terms for LCP-II are set out in this notice, and for the sake of completeness, the original program terms, to the extent that they carry over, are repeated here. These include payment limitations and the exclusion of claims for persons with gross revenue from all sources over a certain level (subject to certain conditions relating to the percentage of a person's revenue derived from farming and ranching). It bears emphasis that livestock that generated payment under LCP-I cannot be used to receive claims under LCP-II. As indicated and as in LCP-I, the critical date of ownership is June 1, 2002. Payments will reflect the number of eligible animals owned by the applicant as of that date.

Also, by reference to section 10806 of the Farm Security and Rural Investment Act of 2002 (21 U.S.C. 321d), the statute added catfish claims to those that can be paid under LCP. However, implementation of the catfish provisions were modified in section 2103 of Public Law 108-11, the Emergency Wartime Supplemental Appropriations Act, 2003 (117 Stat. 559). This section provides, in referring to catfish producers as eligible applicants, that “to provide assistance to eligible applicants under paragraph (2)(B), the Secretary shall provide grants to appropriate departments of agriculture (or other appropriate State agencies) that agree to provide assistance to eligible applicants.” This will require special provisions which are not yet ready. Accordingly, the assistance to catfish producers required by the 2003 Act will not be administered under this notice.

Terms of the Program—The 2002 Livestock Compensation Program-II.

I. Definitions

The following definitions are applicable to this program, which shall be referred to here as 2002 LCP-II:

Adult beef bulls means male bovine livestock, to be used for breeding purposes, that were two years old on or before June 1, 2002.

Adult beef cows means female bovine livestock, used for the purpose of providing meat for human consumption, that have delivered one or more offspring, at any time before June 1, 2002.

Adult buffalo and beefalo bulls means male livestock of those breeds, used for the purpose of providing meat for human consumption, to be used for breeding purposes that were two years old on or before June 1, 2002.

Adult buffalo and beefalo cows means female livestock of those breeds, used for the purpose of providing meat for human consumption, that have delivered one or more offspring, at any time before June 1, 2002.

Adult dairy bulls means male bovine livestock, to be used for breeding dairy cows, that were two years old on or before June 1, 2002.

Adult dairy cows means female bovine livestock, used for the purpose of providing milk for human consumption, that have delivered one or more offspring, at any time before June 1, 2002.

Agency means the Farm Service Agency, its employees, and any successor agency.

Applicant means the individual or business entity applying for assistance.

Application means the Form CCC-370, Livestock Compensation Program (LCP-II) Application. The CCC-370 is available at FSA county service centers and on the Internet.

Beef bulls means male bovine livestock, used for the purpose of providing meat for human consumption, that as of June 1, 2002, weighed more than 500 pounds and were less than two years old.

Beef replacement heifers and non-breeding heifers means female bovine livestock, used for the purpose of providing meat for human consumption, that as of June 1, 2002, weighed more than 500 pounds and had never delivered any offspring.

Beef steers means neutered male bovine livestock, used for the purpose of providing meat for human consumption, that weighed more than 500 pounds on or before June 1, 2002.

Buffalo and beefalo bulls means male livestock of those breeds, used for the purpose of providing meat for human consumption, that as of June 1, 2002, that weighed more than 500 pounds and were less than two years old.

Buffalo and beefalo replacement heifers and buffalo and beefalo non-breeding heifers means female livestock of those breeds, used for the purpose of providing meat for human consumption, that as of June 1, 2002, weighed more than 500 pounds and had never delivered any offspring.

Buffalo and beefalo steers means neutered male livestock of those breeds, used for the purpose of providing meat for human consumption, that weighed more than 500 pounds on or before June 1, 2002.

Business entity means a corporation, partnership, joint operation, trust, limited liability company, or cooperative.

Dairy bulls means male bovine livestock, of a breed used for the purpose of providing milk for human consumption, that as of June 1, 2002, weighed more than 500 pounds and were less than two years old.

Dairy replacement heifers and dairy non-breeding heifers means female bovine livestock, of a breed used for the purpose of providing milk for human consumption, that as of June 1, 2002, weighed more than 500 pounds and had never delivered any offspring.

Dairy steers means neutered male bovine livestock, of a breed used for the purpose of providing milk for human consumption, that weighed more than 500 pounds on or before June 1, 2002.

Deputy Administrator or DAFP means the Deputy Administrator for Farm Programs, Farm Service Agency (FSA), or a designee.

Disaster county means a county included in the geographic area covered by a qualifying natural disaster declaration for calendar year 2001 or calendar year 2002 for which the request for such designation was submitted during the period beginning January 1, 2001, and ending February 20, 2003, and was subsequently approved. Contiguous counties are not considered to be disaster counties unless they themselves qualified on their own or a disaster county.

Eligible livestock means certain beef and dairy cattle, buffalo and beefalo, sheep, and goats that an eligible producer owned, or cash-leased for 90 or more days, and that were owned or subject to a cash lease on June 1, 2002. Certain beef and dairy cattle, buffalo and beefalo, sheep, and goats subject to a contract for purchase by the applicant, that was negotiated prior to June 1, 2002, are eligible livestock.

Eligible livestock producer means an owner or lessee of eligible livestock whose livestock operation headquarters is physically located in a disaster county, and who did not receive a payment for the eligible livestock under the 2002 LCP-I program, that being the original Livestock Compensation Program, announced in the Federal Register October 10, 2002 (67 FR 63070).

Goat means a domesticated, bearded, horned, ruminant mammal of the genus Capra, including Angora goats.

Ineligible livestock means any beef cattle, buffalo, beefalo, dairy cattle, sheep, or goats that were considered eligible livestock and for which payment was received under the 2002 LCP-I, or on June 1, 2002, were not owned or subject to a cash lease or under contract to be purchased by an applicant; and are any beef cattle, buffalo, and dairy cattle that, as of June 1, 2002, weighed less than 500 pounds; and also include livestock owned by an ineligible livestock producer.

Ineligible livestock producer, as determined by the Deputy Administrator, means an entity or individual who received payment for livestock under the 2002 LCP-1; who does not own eligible livestock; who slaughters, processes, and packs livestock meat into meat and meat products; and who is livestock owner that, for monetary reimbursement or other gain, provides feed and facilities for livestock owned by another person on a custom feeding basis; or is a livestock owner whose livestock operation headquarters is not located in an disaster county.

Qualifying natural disaster means:

(1) A natural disaster declared by the Secretary under section 321(a) of the Consolidated Farm and Rural Development Act (7 U.S.C. 1961(a)); or

(2) A major disaster or emergency designated by the President under the Robert T. Stafford Disaster Relief and Emergency Assistance Act (42 U.S.C. 5121, et seq.).

Sheep means a domesticated, horned, ruminant mammal of the genus Ovis, bred for wool, edible flesh, or skin.

II. Appeals

An applicant may request an appeal or review of an adverse decision made by the Agency in accordance with 7 CFR parts 11 and 780.

III. Eligibility Requirements

Applicants must meet all of the following requirements to be eligible for the 2002 LCP-II:

1. Timely application. The applicant must submit a signed form CCC-370 completed to the best of the applicant's ability to FSA, no earlier than April 1, 2003, and no later than such date as announced by the Deputy Administrator.

2. Livestock owner or lessee. The applicant must own, be subject to a contract to purchase, or cash-lease, eligible livestock.

3. Applicant's operation must be physically located in a disaster county. The applicant's livestock operation headquarters must be physically located in a disaster county on June 1, 2002.

IV. Gross Revenue Limitation

A person, as defined in 7 CFR part 1400, who has annual gross revenue in excess of $2.5 million shall not be eligible to receive assistance under the 2002 LCP-II. For the purpose of this determination, annual gross revenue means:

(a) With respect to a person who receives more than 50 percent of such person's gross income from farming and ranching, the total gross revenue received from such operations; and

(b) With respect to a person who receives 50 percent or less of such person's gross income from farming and ranching, the total gross revenue of that person from all sources.

V. Payment Limitation

The total amount of benefits that a person, as determined in accordance with 7 CFR part 1400, shall be entitled to receive under the 2002 LCP-II may not exceed $40,000.

VI. Amount of Assistance

The amount of assistance for 2002 LCP-II for the livestock covered shall be at the same rates for the eligible livestock covered under the 2002 LCP, as they were published in the Federal Register October 10, 2002 and set out below.

VII. Applicant Certification of Eligible Livestock

Eligible livestock must be certified by owner or lessee on the CCC-370. The applicant will report to FSA and provide proof of the number of eligible livestock and, as applicable, that died or were sold after June 1, 2002.

VIII. Payment Eligibility

To be eligible for payment under the 2002 LCP II, as determined by the Deputy Administrator, the applicant must, as of June 1, 2002, be an owner, lessee, or under contract to purchase eligible livestock, whose livestock headquarters operation is physically located in a disaster county; who has submitted and subsequently received FSA County Committee approval on CCC-370, and who meets all other eligibility requirements. Livestock are not eligible to generate a claim under LCP-II to the extent they generated a claim under LCP-I. Further a producer shall not be eligible to receive or retain a payment under this LCP-II program to the extent that the producer has received payment under the 2002 Cattle Feed Program announced by the Secretary on September 3, 2002 (67 FR 56260), or the Livestock Assistance Program established under section 203(b) of the Agricultural Assistance Act of 2003. References in this paragraph to LCP-I are to the original Livestock Compensation Program as announced by the Secretary on October 10, 2002 (67 FR 63070).

IX. Payment Amounts

Adult beef cows and bulls, and adult buffalo and beefalo cows and bulls, as defined in Part I: $18.00 per head.

Adult dairy cows and bulls, as defined in Part I: $31.50 per head.

Beef, dairy, buffalo and beefalo replacement heifers, steers, non-breeding heifers, and bulls, as defined in Part I: $13.50 per head.

All sheep and goats, as defined in Part I, born prior to June 1, 2002: $4.50 per head.

X. Contract Liability

All producers receiving a share of the LCP-II payment are jointly and severally liable for program violations and resulting repayments, if applicable.

XI. How the 2002 LCP-II Will Work

Applications will be accepted in FSA county offices beginning on April 1, 2003. On the LCP-II application, all owners of livestock in each livestock operation in a disaster county may apply for payment on one application. Each applicant will provide FSA with, and certify to, the applicant's name and identification number, address, and number and type of eligible livestock. After FSA county committee approval of the LCP-II application, payments will be issued, beginning May 1, 2003, or as determined by the Deputy Administrator, from the FSA county office to each approved livestock producer on the application.

XII. Misrepresentation, Scheme or Device

A person shall be ineligible to receive assistance under this program, and be subject to such other remedies as may be allowed by law, if, with respect to such program, it is determined by the FSA State or county committee, or an official of FSA, that such person has:

(a) Adopted any scheme or other device that tends to defeat the purpose of the program operated under this notice;

(b) Made any fraudulent representation with respect to this program; or

(c) Misrepresented any fact affecting a program determination.

XIII. Liens and Claims of Creditors

Any benefit or portion thereof due any person under this program shall be allowed without regard to questions of title under State law, and without regard to any claim or lien in favor of any person, except agencies of the U.S. Government.

XIV. Power of Attorney

In those instances in which, before the issuance of this notice, a producer has signed a power of attorney on an approved FSA-211 for a person or entity indicating that such power shall extend to all programs listed on the form, without limitation, such power will be considered to extend to this program unless by April 1, 2003, the person granting the power notified the local FSA office for the control county that the grantee of the power is not authorized to handle transactions for this program for the grantor.

XV. Administration

Where circumstances preclude compliance due to circumstances beyond the applicant's control, the county or State committee may request that relief be granted by the Deputy Administrator under this notice. In such cases, except for statutory deadlines and other statutory requirements, the Deputy Administrator may, in order to more equitably accomplish the goals of this notice, waive or modify deadlines and other program requirements if the failure to meet such deadlines or other requirements does not adversely affect operation of the program and are not prohibited by statute. The 2003 Act funds allocated to CCC to provide assistance under LCP-II have been estimated not to exceed $350 million.

Signed at Washington, DC, on April 23, 2003.
James R. Little,
Executive Vice President, Commodity Credit Corporation.

[FR Doc. 03-10995 Filed 4-30-03; 12:28 pm]

BILLING CODE 3410-05-P